SMALL BUSINESS ADMINISTRATION

Reporting and Recordkeeping Requirements Under OMB Review

AGENCY: Small Business Administration.

ACTION: 30-Day Notice.

SUMMARY: The Small Business Administration (SBA) is publishing this notice to comply with requirements of the Paperwork Reduction Act (PRA) (44 U.S.C. Chapter 35), which requires agencies to submit proposed reporting and recordkeeping requirements to OMB for review and approval, and to publish a notice in the Federal Register notifying the public that the agency has made such a submission. This notice also allows an additional 30 days for public comments.

DATES: Submit comments on or before November 30, 2015.

ADDRESSES: Comments should refer to the information collection by name and/or OMB Control Number and should be sent to: Agency Clearance Officer, Curtis Rich, Small Business Administration, 409 3rd Street SW., 5th Floor, Washington, DC 20416; and SBA Desk Officer, Office of Information and Regulatory Affairs, Office of Management and Budget, New Executive Office Building, Washington, DC 20503.

FOR FURTHER INFORMATION CONTACT: Curtis Rich, Agency Clearance Officer, (202) 205-7030 curtis.rich@sba.gov.

Copies: A copy of the Form OMB 83-1, supporting statement, and other documents submitted to OMB for review may be obtained from the Agency Clearance Officer.

SUPPLEMENTARY INFORMATION: This form is a three-page questionnaire, principally in checklist form, designed to give SBA feedback from those who attend events which SBA cosponsors with other organizations. The form asks whether the event provided practical information which allowed them to manage their businesses more effectively and efficiently and gave them a good working knowledge of the subject. It asks whether the program was sufficient. It asks whether each speaker was well-organized, interesting, presented information at the appropriate level, and communicated well. It asks for suggestion for improvement, and for ideas for new topics.

The form asks some demographic information so that SBA can better understand the Community which these events serve. Where the event relates to government contracting, it asks whether the respondent has taken advantage of various government contracting programs which SBA offers. SBA may also use this form to help evaluate programs which it conducts by itself. Responding to the questionnaire is entirely voluntary.

This form is a three-page questionnaire, principally Solicitation of Public Comments:

Comments may be submitted on (a) whether the collection of information is necessary for the agency to properly perform its functions; (b) whether the burden estimates are accurate; (c) whether there are ways to minimize the burden, including through the use of automated techniques or other forms of information technology; and (d) whether there are ways to enhance the quality, utility, and clarity of the information.

Summary of Information Collections:

Title: Outreach Event survey.

Description of Respondents: Those who attend events which SBA cosponsors with other organizations.

Form Number: SBA Form 20.

Estimated Annual Responses: 40,000.

Estimated Annual Hour Burden: 20 minutes.

Curtis B. Rich,
Management Analyst.

[FR Doc. 2015-27758 Filed 10-29-15; 8:45 am]

BILLING CODE 8025-01-P